DEPARTMENT OF ENERGY

Federal Energy Regulatory Commission

Notice of Application for Surrender of Conduit Exemption and Soliciting Comments, Motions To Intervene, and Protests

March 24, 2006.

Take notice that the following hydroelectric application has been filed with the Commission and is available for public inspection:

a. Application Type: Surrender of Conduit Exemption.

b. Project No: 5714-001.

c. Date Filed: February 7, 2006.

d. Applicant: Lake Hemet Municipal Water District.

e. Name of Project: Oakcliff Project.

f. Location: The project is located on the Lake Hemet Municipal Water District's pipeline in Riverside County, California.

g. Filed Pursuant to: Federal Power Act, 16 U.S.C. 791a—825r.

h. Applicant Contact: Mr. Mitchell J. Freeman, Lake Hemet Municipal Water District, 2480 East Florida Avenue, P.O. Box 5039, Hemet, CA 92544, (951) 658-3241.

i. FERC Contact: Robert Bell, (202) 502-6062.

j. Status of Environmental Analysis: This application is ready for analysis at this time, and the Commission is requesting comments, reply comments, recommendations, terms and conditions, and prescriptions.

k. Deadline for filing comments and or motions: April 24, 2006.

All documents (original and eight copies) should be filed with: Ms. Magalie R. Salas, Secretary, Federal Energy Regulatory Commission, 888 First Street, NE., Washington DC 20426. Please include the project number ( P-5714-001) on any comments or motions filed.

Comments, protests, and interventions may be filed electronically via the Internet in lieu of paper. See, 18 CFR 385.2001(a)(1)(iii) and the instructions on the Commission's Web site at http://www.ferc.gov under the “e-Filing” link. The Commission strongly encourages electronic filings.

l. Description of Application: Lake Hemet Municipal Water District proposes to surrender the exemption from licensing for the Oakcliff Project. As part of its request, Lake Hemet Municipal Water District proposes to decommission the project. The Lake Hemet Municipal Water District will remove all generating and electrical equipment from the site and water deliveries will continue through the same conduits that have been historically used.

m. Location of the Application: This filing is available for review and reproduction at the Commission in the Public Reference Room, Room 2A, 888 First Street, NE., Washington, DC 20426. The filing may also be viewed on the Web at http://www.ferc.gov using the “eLibrary” link. Enter the docket number, here P-5714, in the docket number field to access the document. For assistance, call toll-free 1-866-208-3676 or e-mail FERCOnlineSupport@ferc.gov. For TTY, call (202) 502-8659. A copy is also available for inspection and reproduction at the address in item (h) above.

n. Individuals desiring to be included on the Commission's mailing list should so indicate by writing to the Secretary of the Commission.

o. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

q. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E6-4652 Filed 3-29-06; 8:45 am]

BILLING CODE 6717-01-P